DEPARTMENT OF TRANSPORTATION

Federal Aviation Administration

14 CFR Part 39

[Docket No. FAA-2025-0479; Project Identifier MCAI-2024-00436-T; Amendment 39-23172; AD 2025-20-19]

RIN 2120-AA64

Airworthiness Directives; Airbus SAS Airplanes

AGENCY: Federal Aviation Administration (FAA), DOT.

ACTION: Final rule.

SUMMARY: The FAA is superseding Airworthiness Directive (AD) 2016-14-03, which applied to all Airbus SAS Model A319-111, -112, -113, -114, -115, -131, -132, and -133 airplanes; Model A320-211, -212, -214, -231, -232, and -233 airplanes; and Model A321-111, -112, -131, -211, -212, -213, -231, and -232 airplanes. AD 2016-14-03 required reinforcing the forward pressure bulkhead at a certain stringer on both the left-hand and right-hand sides and doing related investigative and corrective actions if necessary. Since the FAA issued AD 2016-14-03, new crack findings have prompted the need for repetitive inspections of the area. This AD continues to require the actions in AD 2016-14-03, adds repetitive inspections of structure at a certain frame and applicable corrective actions, provides a terminating action for the repetitive inspections, and revises the applicability by removing airplanes and adding certain airplane models. The FAA is issuing this AD to address the unsafe condition on these products.

DATES: This AD is effective January 2, 2026.

The Director of the Federal Register approved the incorporation by reference of a certain publication listed in this AD as of January 2, 2026.

ADDRESSES:

AD Docket: You may examine the AD docket at regulations.gov under Docket No. FAA-2025-0479; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2025-0479.

FOR FURTHER INFORMATION CONTACT: Nicholas Benson, Aviation Safety Engineer, FAA, 2200 South 216th St., Des Moines, WA 98198; phone: 206-231-3647; email: nicholas.h.benson@faa.gov.

SUPPLEMENTARY INFORMATION:

Background

The FAA issued a notice of proposed rulemaking (NPRM) to amend 14 CFR part 39 to supersede AD 2016-14-03, Amendment 39-18584 (81 FR 44496, July 8, 2016) (AD 2016-14-03). AD 2016-14-03 applied to all Airbus SAS Model A319-111, -112, -113, -114, -115, -131, -132, and -133 airplanes; Model A320-211, -212, -214, -231, -232, and -233 airplanes; and Model A321-111, -112, -131, -211, -212, -213, -231, and -232 airplanes. AD 2016-14-03 required reinforcing the forward pressure bulkhead at a certain stringer on both the left-hand and right-hand sides and doing related investigative and corrective actions if necessary. The FAA issued AD 2016-14-03 to prevent fatigue cracking of the forward pressure bulkhead, which could result in reduced structural integrity of the airplane.

The NPRM was published in the Federal Register on March 27, 2025 (90 FR 13848). The NPRM was prompted by AD 2024-0147R1, dated August 7, 2024 (EASA AD 2024-0147R1) (also referred to as “the MCAI”), issued by EASA, which is the Technical Agent for the Member States of the European Union. The MCAI states that after EASA AD 2014-0209 was issued, several findings of cracks were reported in service during application of Airworthiness Limitation Item (ALI) tasks 532166 and 533186. As a result of these findings, Airbus has developed different thresholds and inspection requirements compared to those specified in ALI tasks 532166 and 533186 and requires those inspections until a modification is done.

In the NPRM, the FAA proposed to continue to require the actions in AD 2016-14-03. The FAA also proposed to add repetitive inspections of structure at a certain frame and applicable corrective actions, provide a terminating action for the repetitive inspections, and revise the applicability by removing airplanes and adding certain airplane models, as specified in EASA AD 2024-0147R1. The FAA is issuing this AD to address the unsafe condition on these airplane products.

You may examine the MCAI in the AD docket at regulations.gov under Docket No. FAA-2025-0479.

Discussion of Final Airworthiness Directive

Comments

The FAA received a comment from United Airlines who supported the NPRM without change.

The FAA received additional comments from American Airlines (American), Delta Air Lines (Delta), and ProTech Aero Services Limited (ProTech). The following presents the comments received on the NPRM and the FAA's response to each comment.

Request To Confirm Use of Later Revisions Is Allowed

ProTech requested the FAA confirm that the proposed AD would allow the use of later-approved revisions of the material specified in EASA AD 2024-0147R1, as acceptable for compliance with the AD requirements.

This AD does allow the use of later-approved revisions of the material referenced in EASA AD 2024-0147R1 as acceptable for compliance with the required actions. This AD adopts the “Ref. Publications” section of EASA AD 2024-0147R1, which includes the current version of the referenced material as well as later approved revisions.

Request To Provide Credit for Actions Accomplished per a Certain Service Bulletin

Delta requested the FAA confirm that accomplishment of Airbus Service Bulletin A320-53-1372, dated May 15, 2018, instead of Airbus Service Bulletin A320-53-1268, Revision 03, dated May 7, 2015, suffices for taking credit for paragraph (4) of EASA AD 2024-0147R1. If the FAA agrees, then Delta requested the FAA add a new exception to paragraph (h) of the proposed AD to specify, where paragraph (4) of EASA AD 2024-0147R1 states “in accordance with the instructions of Airbus Service Bulletin A320-53-1268,” this AD considers Airbus Service Bulletin A320-53-1372 as acceptable for compliance. Delta requested the new exception because paragraph (4) of the EASA AD 2024-0147R1 does not mention Airbus Service Bulletin A320-53-1372, and the FAA's NPRM does not address Delta's concern. Delta stated it received an acceptable method of compliance (AMOC) to FAA AD 2016-14-03 (via AMOC Letter No. AIR-676-18-307, dated July 20, 2018) that allowed use of Airbus Service Bulletin A320-53-1372 instead of Airbus Service Bulletin A320-53-1268 and would like to take credit for previous compliance actions for its applicable airplanes.

The FAA partially agrees. The FAA agrees that, for certain airplane serial numbers, the modification specified in paragraph (3) of EASA AD 2024-0147R1 may be accomplished using the original issue of Airbus Service Bulletin A320-53-1372, dated May 15, 2018, or later approved revisions, but disagrees that an exception is needed to provide credit for accomplishing the modification using the original issue of that service bulletin before the effective date of this AD. EASA AD 2024-0147R1 defines “the applicable modification SB” as Airbus Service Bulletin A320-53-1268, Revision 01, or Airbus Service Bulletin A320-53-1372, as applicable to the manufacturer serial number. Since no revision number is cited for Airbus Service Bulletin A320-53-1372 in the definition, this means operators may use any revision of the service bulletin specified in the “Ref. Publications” paragraph of the EASA AD, as applicable, to accomplish the modification. However, paragraph (4) of EASA AD 2024-0147R1 is necessary to provide credit for any modification done before the effective date of this AD using the original issue of Airbus Service Bulletin A320-53-1268, dated January 8, 2013, because the definition only cites Revision 01 of that service bulletin. The FAA has not changed the AD in this regard.

The FAA clarifies that AMOCs approved previously for AD 2016-14-03 are approved as AMOCs for the corresponding provisions of EASA AD 2024-0147R1 that are required by paragraph (g) of this AD. The FAA has revised paragraph (i) of this AD accordingly.

Request To Correct Part Numbers

American requested the FAA revise the proposed AD to allow use of the correct part numbers as an AMOC to certain part numbers specified in Figure A-GBAAG—Sheet 02 of Airbus Service Bulletin A320-53-1383, dated March 5, 2019. American stated that, while incorporating changes found in Airbus Service Bulletin Information Transmission (SBIT) 19-0038, Revision 03, dated February 10, 2025, it found an error in the figure, and Airbus confirmed that certain part numbers in the tables and instructions for COMPD07 of subtasks 531383-420-202-001 and 531383-420-204-001 should be corrected.

The FAA agrees there is an error in Airbus Service Bulletin A320-53-1383, dated March 5, 2019, but no change to this AD is necessary. The FAA reviewed the service bulletin and determined that Figure A-GBAAG Sheet 02 is not required for compliance. Subtasks 531383-420-202-001 and 531383-420-204-001 provide procedures to wet install fasteners in accordance with Structural Repair Manual (SRM) 51-42-00, but they only reference the figure and an airplane maintenance manual (AMM) task for additional information. Since the service bulletin does not specify that the fastener installation must be done in accordance with the figure, operators are not required to use the part numbers identified in the figure. Operators may instead use the correct part numbers identified in Airbus Message 81581889/005, Discrepancy in Figure A-GBAAG Sheet 02, dated April 24, 2025, to comply with the requirements of this AD. Further, Airbus's response to American indicated the part numbers would be corrected in a later revision of the service bulletin, which may be used for compliance according to the “Ref. Publications” section of EASA AD 2024-0147R1. The FAA has not changed the AD in this regard.

Request To Correct a Typographical Error

Delta requested the FAA revise the exception in paragraph (h)(4) of the proposed AD by changing “herein” to “therein.” Delta stated paragraph (6) of EASA AD 2024-0147R1 uses “herein” to specify the compliance times for repair instructions provided by Airbus based on inspection findings after accomplishing ALI tasks 532166 and 533186. Delta believes “herein” is a typographical error because the EASA AD does not mention any compliance times for the ALI tasks inspection findings. Delta stated that repair instructions and compliance times as a result of the ALI inspection findings should be specified in the appropriate Airbus Repair Design Approval Forms (RDAFs).

The FAA does not agree that usage of “herein” in EASA AD 2024-0147R1 and paragraph (h)(4) of this AD is a typographical error. Paragraph (6) of the EASA AD applies to airplanes that have been inspected per ALI task 532166 and/or 533186 and repaired using Airbus approved instructions. The FAA clarifies that, for these airplanes, paragraph (6) of the EASA AD specifies accomplishing the repetitive inspections of each repaired hole in accordance with the applicable Airbus approved instructions within the compliance time “herein,” where herein refers to table 1 of the EASA AD for the applicable inspection compliance times. The FAA has not revised the AD in this regard.

Request To Calculate Compliance Time Based on Accomplishment of a Certain Task

Delta requested the FAA add an exception to paragraph (h) of the proposed AD to allow the compliance time in table 1 of EASA AD 2024-0147R1 to be calculated based on accomplishment of ALI task 532166-01-1 instead of ALI task 532166-02-1. Delta noted that ALI task 532166-02-1 states the task is an alternative to ALI task 532166-01-1, and that it accomplishes ALI task 532166-01-1 instead of ALI task 532166-02-1. Since Airbus has stipulated that the task is alternative, Delta therefore concluded that the compliance time may also be calculated using ALI task 532166-01-1 instead of ALI task 532166-02-1.

The FAA does not agree with the request. EASA AD 2024-0147R1 does not list ALI task 532166-01-1 as an alternate inspection task in Table 1—Initial Inspection. Further, ALI task 532166-02-1 is a special detailed inspection (rototest), while ALI task 532166-01-1 is a visual inspection. The FAA has not changed this AD in this regard.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, and any other changes described previously, this AD is adopted as proposed in the NPRM. None of the changes will increase the economic burden on any operator.

Material Incorporated by Reference Under 1 CFR Part 51

The FAA reviewed EASA AD 2024-0147R1, which specifies procedures for repetitive inspections for cracking of the airplane structure at frame (FR) 35 and stringer (STGR) 30 on the left-hand and right-hand sides for Airbus SAS Model A318, Model A319, and Model A320 airplanes; and at FR 35.8 and STGR 30 on the left-hand and right-hand sides for Airbus SAS Model A321 airplanes. EASA AD 2024-0147R1 also specifies obtaining and following instructions for crack repair. EASA AD 2024-0147R1 specifies that accomplishment of that inspection on an airplane terminates ALI tasks 532166 and task 533186 requirements.

EASA AD 2024-0147R1 also specifies procedures for modifying the forward pressure bulkhead at the frame coupling on the left-hand and right-hand sides of FR 35 and STGR 30, including applicable related investigative and corrective actions, for Airbus SAS Model A318, Model A319, and Model A320 airplanes; and at FR 35.8 and STGR 30 for Airbus SAS Model A321 airplanes. EASA AD 2024-0147R1 specifies that this modification constitutes terminating action for the repetitive inspections for that airplane.

This material is reasonably available because the interested parties have access to it through their normal course of business or by the means identified in the ADDRESSES section.

Costs of Compliance

The FAA estimates that this AD affects 1,922 airplanes of U.S. registry. The FAA estimates the following costs to comply with this AD:

The FAA estimates that it would take up to 21 work-hours per product to comply with the retained actions from AD 2016-14-03. The average labor rate is $85 per work-hour. Based on these figures, FAA estimates the cost for U.S. operators is up to $3,430,770, or up to $1,785 per product.

The FAA estimates that it would take up to 11 work-hours per product to comply with the new proposed actions. The average labor rate is $85 per work-hour. Based on these figures, FAA estimates the cost for U.S. operators is up to $1,797,070, or up to $935 per product.

The FAA has received no definitive data on which to base the cost estimates for the on-condition actions specified in this AD.

According to the manufacturer, some or all of the costs of this AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2016-14-03, Amendment 39-18584 (81 FR 44496, July 8, 2016); and

b. Adding the following new AD:

2025-20-19 Airbus SAS: Amendment 39-23172; Docket No. FAA-2025-0479; Project Identifier MCAI-2024-00436-T.

(a) Effective Date

This airworthiness directive (AD) is effective January 2, 2026.

(b) Affected ADs

This AD replaces AD 2016-14-03, Amendment 39-18584 (81 FR 44496, July 8, 2016) (AD 2016-14-03).

(c) Applicability

This AD applies to Airbus SAS Model airplanes specified in paragraphs (c)(1) through (4) of this AD, certificated in any category, as identified in European Union Aviation Safety Agency (EASA) AD 2024-0147R1, dated August 7, 2024 (EASA AD 2024-0147R1).

(1) Model A318-111, -112, -121, and -122 airplanes.

(2) Model A319-111, -112, -113, -114, -115, -131, -132, and -133 airplanes.

(3) Model A320-211, -212, -214, -216, -231, -232, and -233 airplanes.

(4) Model A321-111, -112, -131, -211, -212, -213, -231, and -232 airplanes.

(d) Subject

Air Transport Association (ATA) of America Code 53, Fuselage.

(e) Unsafe Condition

This AD was prompted by the need to complete certain mandated programs intended to support the airplane reaching its limit of validity (LOV) of the engineering data that support the established structural maintenance program. This AD was also prompted by reports that during inspections accomplished as specified in certain Airworthiness Limitation Items (ALIs), cracks were detected on the fastener holes at frame (FR) 35 or FR 35.8 between stringers (STGRs) 28 and 31. The FAA is issuing this AD to prevent fatigue cracking on the forward pressure bulkhead. The unsafe condition, if not addressed, could result in reduced structural integrity of the fuselage.

(f) Compliance

Comply with this AD within the compliance times specified, unless already done.

(g) Requirements

Except as specified in paragraph (h) of this AD: Comply with all required actions and compliance times specified in, and in accordance with, EASA AD 2024-0147R1.

(h) Exceptions to EASA AD 2024-0147R1

(1) Where EASA AD 2024-0147R1 refers to its effective date, this AD requires using the effective date of this AD.

(2) Where paragraph (2) of EASA AD 2024-0147R1 specifies “If, during any inspection as required by paragraph (1) of this AD, discrepancies are detected, before next flight, contact Airbus to obtain approved instructions for corrective action and accomplish those instructions accordingly”, this AD requires replacing that text with the following: “If, during any inspection as required by paragraph (1) of this AD, any cracking is detected, the cracking must be repaired before further flight using a method approved by the Manager, AIR-520, Continued Operational Safety Branch, FAA; or EASA; or Airbus SAS's EASA Design Organization Approval (DOA). If approved by the DOA, the approval must include the DOA-authorized signature.”

(3) Where EASA AD 2024-0147R1 refers to “03 October 2014 [the effective date of EASA AD 2014-0209],” this AD requires using August 12, 2016 (the effective date of AD 2016-14-03).

(4) Where paragraph (6) of EASA AD 2024-0147R1 specifies “repaired using Airbus approved instructions, accomplish the (repetitive) inspection for each repaired hole in accordance with the applicable Airbus approved instructions within the compliance time herein specified”, this AD requires replacing that text with the following: “repaired using a method approved by the Manager, AIR-520, Continued Operational Safety Branch, FAA; or EASA; or Airbus SAS's EASA DOA, provided the DOA approval includes the DOA-authorized signature: accomplish the (repetitive) inspection for each repaired hole in accordance with the applicable approved instructions within the compliance time herein specified.”

(5) This AD does not adopt the “Remarks” section of EASA AD 2024-0147R1.

(i) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (j) of this AD and email to: AMOC@faa.gov.

(i) Before using any approved AMOC, notify your appropriate principal inspector, or lacking a principal inspector, the manager of the responsible Flight Standards Office.

(ii) AMOCs approved previously for AD 2016-14-03 are approved as AMOCs for the corresponding provisions of EASA AD 2024-0147R1 that are required by paragraph (g) of this AD.

(2) Contacting the Manufacturer: For any requirement in this AD to obtain instructions from a manufacturer, the instructions must be accomplished using a method approved by the Manager, AIR-520, Continued Operational Safety Branch, FAA; or EASA; or Airbus SAS's EASA DOA. If approved by the DOA, the approval must include the DOA-authorized signature.

(3) Required for Compliance (RC): Except as required by paragraph (i)(2) of this AD, if any material contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Additional Information

For more information about this AD, contact Nicholas Benson, Aviation Safety Engineer, FAA, 2200 South 216th St., Des Moines, WA 98198; phone: 206-231-3647; email: nicholas.h.benson@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0147R1, dated August 7, 2024.

(ii) [Reserved]

(3) For EASA material identified in this AD, contact EASA, Konrad-Adenauer-Ufer 3, 50668 Cologne, Germany; telephone +49 221 8999 000; email ADs@easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on October 3, 2025.
Peter A. White,
Deputy Director, Integrated Certificate Management Division, Aircraft Certification Service.

[FR Doc. 2025-21476 Filed 11-26-25; 8:45 am]

BILLING CODE 4910-13-P